DEPARTMENT OF ENERGY

Federal Energy Regulatory Commission

[Docket No. RP02-56-001]

Dominion Transmission, Inc.; Notice of Compliance Filing

December 17, 2001.

Take notice that on December 7, 2001, Dominion Transmission, Inc. (DTI) tendered for filing with the Commission an errata to its November 27, 2001 filing in Docket No. RP02-56-000 (November 27th Filing). The November 27th Filing adopted the Gas Research Institute surcharges previously approved by the Commission on September 19, 2001, in Docket No. RP01-434-000.

DTI states that the purpose of the filing is to correct a transposed number on one of the tariff sheets, affecting the reservation rate and the rate for capacity release. The revised tariff sheet, Substitute Fourteenth Revised Sheet No. 32, corrects that error.

DTI states that copies of its letter of transmittal and enclosures have been served upon DTI's customers, interested state commissions and on all persons on the official service list compiled by the Secretary of the Commission for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31446 Filed 12-20-01; 8:45 am]

BILLING CODE 6717-01-P